DEPARTMENT OF AGRICULTURE

Farm Service Agency

Information Collection Request, Volunteer Program

AGENCY: Farm Service Agency, USDA.

ACTION: Notice; request for comments.

SUMMARY: In accordance with the Paperwork Reduction Act of 1995, the Farm Service Agency (FSA) is requesting comments from all interested individuals and organizations on an extension of a currently approved information collection associated with the Volunteer Program.

DATES: We will consider comments that we receive by January 16, 2018.

ADDRESSES: We invite you to submit comments on this notice. In your comment, include the volume, date, and page number of this issue of the Federal Register. You may submit comments by any of the following methods:

• Federal eRulemaking Portal: Go to: www.regulations.gov. Follow the online instructions for submitting comments.

• Mail, Hand-Delivery or Courier: Ms. Shannon (Logan) Morrison, USDA, FSA, Human Resources Division, HCSPIB, 355 E Street SW., 12th Floor, Washington, DC 20024.

You may also send comments to the Desk Officer for Agriculture, Office of Information and Regulatory Affairs, Office of Management and Budget, Washington, DC 20503. Comments will be available for inspection online at http://www.regulations.gov.

Copies of the information collection may be requested by contacting Shannon (Logan) Morrison at the above address. Persons with disabilities who require alternative means of communications should contact the USDA Target center at (202)720-2600 (voice).

FOR FURTHER INFORMATION CONTACT: For specific questions related to collection activities, Ms. Shannon (Logan) Morrison; (202) 401-0165.

SUPPLEMENTARY INFORMATION:

Title: Volunteer Program.

OMB Control Number: 0560-0232.

Expiration Date for Approval: January 31, 2018.

Type of Request: Extension.

Abstract: Section 1526 of the Agriculture and Food Act of 1981 (7 U.S.C. 2272) authorizes the Secretary of Agriculture to establish a program (“the Volunteer Program”) to use volunteers to perform a wide range of activities to carry out the programs of the Department of Agriculture. In addition, 5 U.S.C. 3111 grants agencies the authority to establish programs designed to provide educationally-related work assignments for students in non-pay status. For FSA's volunteer program, each volunteer must follow the same responsibilities and guidelines for conduct that Federal government employees are expected to follow. The volunteers, who are mainly students participating in the sponsored volunteer program, must complete a service agreement, attendance records, and other forms, and provide the required supporting documents to FSA. The information will allow FSA to effectively recruit, train, and accept volunteers to carry out programs supported by the Department of Agriculture, therefore benefitting volunteers, the Department of Agriculture, and the general public.

Without the information, FSA will be unable to document the services provided by the volunteers. FSA will report the collected information to offices within the Department of Agriculture and the Office of Personnel Management that request information on the Volunteer Program.

FSA continues to use forms AD-2022, AD-2023, AD-2024, and AD-2025 in the Volunteer Program. There is no change to the burden hours since the last OMB approval. Also, FSA will remove the FSA-related burden for form OF301 from the generic information collection request approved under OMB control number 0596-0080; FSA had previously used form OF301, but no longer uses that form.

For the following estimated total annual burden on respondents, the formula used to calculate the total burden hours is the estimated average time per response multiplied by the estimated total annual responses.

Estimate of Average Time to Respond: Public reporting burden for collecting information under this notice is estimated to average 15 minutes (0.25) per response for each of the 4 forms, including the time for reviewing instructions, searching existing data sources, gathering and maintaining the data needed, and completing and reviewing the collection of information for all respondent. Therefore, it would be an average 0.38 hours per response in this collection.

Type of Respondents: Any individuals.

Estimated Number of Respondents: 20.

Estimated Number of Responses per Respondent: 4.

Estimated Total Annual Reponses: 80.

Estimated Average Time per Response: 0.38 hours.

Estimated Total Annual Burden on Respondents: 30 hours.

We are requesting comments on all aspects of this information to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information technology.

All comments received in response to this notice, including names and addresses when provided, will be a matter of public record. Comments will be summarized and included in the submission for Office of Management and Budget Approval.

Steven J. Peterson,
Acting Administrator, Farm Service Agency.

[FR Doc. 2017-24652 Filed 11-14-17; 8:45 am]

BILLING CODE 3410-05-P